DEPARTMENT OF LABOR

Employment and Training Administration

[TA-W-71,324]

Chart Energy and Chemicals, Inc., La Crosse, WI; Notice of Termination of Investigation

Pursuant to Section 223 of the Trade Act of 1974, as amended, an investigation was initiated in response to a petition filed on June 22, 2009, by an officer of the International Association of Machinists and Aerospace Workers, Lodge 2191, on behalf of workers of Chart Energy and Chemical, Inc., La Crosse, Wisconsin.

The petitioner has requested that the petition be withdrawn. Consequently, the investigation has been terminated.

Signed at Washington, DC this 3rd day of February, 2009.
Richard Church,
Certifying Officer, Division of Trade Adjustment Assistance.

[FR Doc. 2010-5349 Filed 3-11-10; 8:45 am]

BILLING CODE 4510-FN-P